DEPARTMENT OF HOUSING AND URBAN DEVELOPMENT

[Docket No. FR-4434-N-07]

Quality Housing and Work Responsibility Act of 1998; Notice of Status of Implementation

AGENCY: Office of the Assistant Secretary for Public and Indian Housing, HUD.

ACTION: Notice.

SUMMARY: On October 21, 1998, the Quality Housing and Work Responsibility Act of 1998 (the “Act”) was signed into law. This notice updates the public on HUD's overall implementation of the Act and identifies where existing implementation guidance may be found with respect to the provisions regarding public housing and tenant-based assistance.

FOR FURTHER INFORMATION CONTACT: Stephen I. Holmquist, Office of Policy, Program and Legislative Initiatives, Office of Public and Indian Housing, Department of Housing and Urban Development, 451 Seventh Street, SW, Room 4116, Washington, DC, 20410; telephone (202) 708-0713 (this is not a toll-free number). Persons with hearing or speech impairments may access that number via TTY by calling the Federal Information Relay Service at (800) 877-8339. Program specialists for more specific HUD program areas are listed on the HUD web page at http://hudweb.hud.gov/offices.html.

SUPPLEMENTARY INFORMATION:

I. Introduction

The Quality Housing and Work Responsibility Act of 1998 (Title V of Pub.L. 105-276, 112 Stat. 2518, approved October 21, 1998) (the “Act”), was part of the Fiscal Year 1999 HUD Appropriations Act. The Act makes extensive amendments to the United States Housing Act of 1937 (the “1937 Act”), which generally governs HUD's public housing and tenant-based Section 8 housing assistance programs. Certain provisions of the Act became effective immediately on enactment (October 21, 1998). Most provisions of the Act, however, became effective on October 1, 1999, although some provisions become effective on October 21, 1999 (one year from enactment) or on other dates specified in the Act.

On February 18, 1999 (64 FR 8192), HUD published a Notice of Initial Guidance on the Act to advise the public of those provisions that were effective immediately and of action that may or should be taken at that point. The February 18, 1999 Notice also provided guidance on certain other provisions in the Fiscal Year 1999 HUD Appropriations Act that affect the public housing and Section 8 programs. Since publication of the February 18, 1999 notice, HUD has published numerous other notices and proposed, interim, and final rules to implement the Act. On December 22, 1999 (64 FR 71799), HUD published comprehensive guidance on the status of implementation of the Act.

Since that time, HUD has published additional notices and rules to implement the Act. This notice, published in today's Federal Register, updates the public on HUD's overall implementation of the Act and identifies where existing implementation guidance may be found, with respect to the provisions regarding public housing and tenant-based assistance.

II. Summary of Rulemakings Undertaken Under the Quality Hoiusing and Work Responsibility Act

In addition to the Notice of Initial Guidance, published on February 18, 1999, and the update to that Notice, published on April 30, 1999 (64 FR 23344), and the Status of Implementation Notice of December 22, 1999, the following rulemaking has occurred under the Act (Federal Register references are included in the following chart):

Final Rules

1. Public Housing Agency Plans

2. Statutory Merger of the Section 8 Certificate and Voucher Programs (Housing Choice Voucher Program)

3. Renewals of Section 8 Tenant-Based Assistance Contracts

4. Revised Restrictions on Assistance to Noncitizens

5. Comprehensive Improvement Assistance(CIAP)Formula Allocation for Fiscal 1999

6. Public Housing Drug Elimination Program (PHDEP) Formula Allocation

7. Required Resident on the PHA Board of Commissioners or Similar Governing Body

8. Amendments to the Public Housing Assessment System (PHAS)

9. Allocation of Funds Under the Public Housing Capital Fund

10. Changes to Admissions, Rents and Occupancy Requirements in the Public Housing and Section 8 Programs

11. Pet Ownership in Public Housing

12. Direct Funding of Resident Management Corporations

13. Section 8 Homeownership Vouchers

14. Consortia of Public Housing Agencies and Joint Ventures

15. Rule to Deconcentrate Poverty and Promote Integration in Public Housing (amended PHA Plan)

16. Earned Income Disregard for Persons with Disabilities in Certain Programs

Interim Rule

1. Allocation of Operating Subsidies under the Operating Fund Formula

Proposed Rules (Final Rule not yet published).

1. Screening and Eviction for Drug Abuse and Other Criminal Activity

2. Required Conversion of Developments from Public Housing Stock

3. Voluntary Conversion of Developments from Public Housing Stock

4. Public Housing Homeownership Program

5. Total Development Costs

6. Allocation of Funds under the Public Housing Operating Fund

Proposed Rules Under Development (not yet published)

1. Public Housing Capital Fund. This rule will establish regulatory provisions concerning the Public Housing Capital Fund other than the formula.

2. Public Housing Mixed Finance. This rule will make a number of changes to the mixed finance regulations, including fully implementing section 539 of the Act.

3. Public Housing Demolition/Disposition. This rule will implement more fully section 531 of the Act.

III. Summary Chart of Status and Guidance

The following chart summarizes HUD's implementation, or guidance issued, to date on each section of the Act covered by this Notice. Where rulemaking is not yet completed the public should review the guidance in the December 22, 1999 Status of Implementation; Guidance Notice.

Statutory section | Implemented by February 18, 1999 Notice of Initial Guidance | Proposed rule | Interim rule | Final rule | Additional information
Sec. 503(c) Technical Recommendation |  |  |  |  | Report containing proposals for technical and conforming legislative changes was submitted to the Congress on July 23, 1999.
Sec. 503(d) List of obsolete documents |  |  |  |  | The required Federal Register notice was published on October 1, 1999 (64 FR 53400).
Sec. 505 Declaration of Policy and Public Housing Agency Organization |  | June 23, 1999 (64 FR 33644) |  | October 21, 1999 (64 FR 56870) | Rulemaking implemented the statutory requirement that the governing board of each PHA, with certain exceptions, contain at least one member who is directly assisted by the PHA.
Sec. 506 Definitions |  |  |  |  | Statutory changes were incorporated in HUD rulemakings implementing the Public Housing Reform Act, as appropriate.
Sec. 507 Minimum Rent | Yes | Part of Admissions and Occupancy, April 30, 1999 (64 FR 23459) |  | A/O final rule March 29, 2000 (64 FR 16692) | Section 507 was effective upon enactment.
Sec. 508 Determination of Adjusted Income and Median Income |  | Part of Admissions and Occupancy rulemaking |  | A/O final rule March 29, 2000 (64 FR 16692) | Partial implementation was required by August 6, 1999 Notice of Guidance on Public Housing Rent Policies (64 FR 42956).
Sec. 509 Family Self-Sufficiency Program | Yes | Part of Admissions and Occupancy rulemaking |  | A/O final rule March 29, 2000 (64 FR 16692) |
Sec. 510 Prohibition on Use of Funds |  |  |  |  | Self-implementing; no rulemaking required.
Sec. 511 Public Housing Agency Plans |  | April 17, 2000 (65 FR 20686) | February 18, 1999 (64 FR 8170) | October 21, 1999 (64 FR 56844). Streamlining, August 14, 2000 (65 FR 49484). December 22, 2000, Amended Final Rule (65 FR 81214). February 5, 2001, Change in Applicability Date (66 FR 8897) | Additional guidance provided in PIH Notices 99-33 and 99-51, 2000-43 and 2001-4, including required electronic template for submission of PHA Plans and simplified Small PHA Plan Update.
Sec. 512 Community Service and Family Self-Sufficiency Requirements | Yes, as to changes to welfare-related program requirements (see amended subsection 12(d) of the 1937 Act) | Part of Admissions and Occupancy rulemaking |  | A/O final rule March 29, 2000 (64 FR 16692) | PIH Notice 2000-11, published on May 9, 2000, provides a model cooperative agreement that PHAs can use with welfare and other agencies to target supportive services and share needed information.
Sec. 513 Income Targeting for Public Housing and Tenant-Based Section 8 Assistance | Yes | Part of Admissions and Occupancy rulemaking | Part of PHA Plan rulemaking, with regard to deconcentration (see section 511) | A/O Final Rule March 29, 2000 (65 FR 16692)
|  |  | Part of Section 8 Merger Interim rule with regard to Section 8 vouchers. The interim rule was published on May 14, 1999 (64 FR 26632) (see section 545) | Part of PHA Plan rulemaking, with regard to deconcentration (see section 511) Final Section 8 Merger rule published on October 21, 1999 (64 FR 56894) (see section 545)
Sec. 514 Repeal of Federal preferences | Yes | Part of Admissions and Occupancy rulemaking (for public housing and Section 8 project based assistance) | Part of Section 8 Merger rulemaking (for Section 8 tenant-based vouchers) (See section 545) | A/O Final Rule March 29, 2000 (65 FR 16692) Part of Section 8 Merger rulemaking (See section 545).
Sec. 515 Joint Ventures and Consortia of PHAs |  | September 14, 1999 (64 FR 49940) |  | Nov. 29, 2000 (65 FR 71204) | For guidance prior to implementation of final rule see PIH Notice 2000-43.
Sec. 516 Public Housing Agency Mortgages and Security Interests |  | In development, in conjunction with capital fund program (non-formula) rulemaking (see section 519)
Sec. 517 Mental Health Action Plan |  |  |  |  | Development of action plan and compliance with other statutory requirements is in progress.
Sec. 518 Local Notification |  |  |  |  | No rulemaking necessary, but additional elaboration may be provided in Capital Fund program (non-formula) rulemaking (see section 519).
Sec. 519
1. Capital Fund formula |  | September 14, 1999 (64 FR 49924) |  | March 16, 2000 (65 FR 14422) and May 2, 2000 Amendment (65 FR 25445)
2. Capital Fund program (non-formula) |  | In development.
Sec. 519 Operating Fund | Yes (transition provisions) | Negotiated rule published on July 10, 2000 (65 FR 42488) | March 29, 2001 (66 FR 17276) |  | Nonrental income provision was implemented for FY 2000 by PIH Notice 2000-4.
Sec. 519 Other Provisions | Yes
Sec. 520 Total Development Cost |  | January 4, 2001 (65 FR 1008) |  |  | Guidance also provided in PIH Notice 99-17.
Sec. 521 Sanctions for Improper Use of Amounts |  |  |  |  | No rulemaking required; HUD will cross-reference this sanction authority in its program regulations, as appropriate.
Sec. 522 Repeal of Modernization Fund |  |  |  | Capital fund formula final rule covers some aspects. (See Section 519) | Guidance provided in the March 23, 1999 HUD-CPD memorandum on the “Impacts of the 1999 Appropriations Act on HOME and SHOP” and the March 25, 1999 clarifying memorandum on the same subject.
Sec. 523 Family Choice of Rental Payment | Discussed but not implemented | Part of Admissions and Occupancy rulemaking |  | A/O Final Rule March 29, 2000 (65 FR 16692) | Implementation required by the August 6, 1999 Notice of Guidance on Public Housing Rent Policies.
Sec. 524 Occupancy by Police Officers and Over-Income Families | Yes | Part of Admissions and Occupancy rulemaking |  | A/O Final Rule March 29, 2000 (65 FR 16692)
Sec. 525 Site-Based Waiting Lists |  |  | Part of PHA Plan rulemaking (see section 511) | Part of PHA Plan rulemaking (see section 511)
Sec. 526 Pet Ownership |  | June 23, 1999 (64 FR 33640) |  | July 10, 2000 (65 FR 42518)
Sec. 529 Contract Provisions |  |  |  |  | No rulemaking required; to be implemented through amendments to Annual Contributions Contracts (ACCs).
Sec. 530 Housing Quality Requirements | Yes |  |  |  | No rulemaking required; to be implemented through ACC amendments.
Sec. 531 Demolition and Disposition of Public Housing | Yes | In development | Part of PHA Plan rulemaking (see section 511) | Part of the PHA Plan rulemaking (see section 511) | Additional guidance provided in PIH Notice 99-19.
Sec. 532 Resident Councils and Resident Management Corporations |  | October 21, 1999 (64 FR 56890) (provides for the direct funding of RMCs); more comprehensive proposed rule in development |  | Final rule for October 21, 1999 proposed rule. July 10, 2000 (65 FR 42512)
Sec. 533 Voluntary Conversion of Public Housing to Vouchers |  | July 23, 1999 (64 FR 40240) |  | In development
Sec. 534 Transfer of Management of Certain Housing |  |  |  |  | Rulemaking is not required, but may be included as part of resident participation rulemaking (Part 964).
Sec. 535 Demolition, Site Revitalization, Replacement Housing, and Tenant-Based Assistance Grants for Projects (HOPE VI) |  |  |  |  | Implemented by the annual notices of fund availability (NOFAs) for the HOPE VI program beginning 1999 with the FY NOFA.
Sec. 536 Public Housing Homeownership |  | September 14, 1999 (64 FR 49932) |  | In development
Sec. 537 Required Conversion of Public Housing to Vouchers |  | July 23, 1999 (64 FR 40232) |  | In development
Sec. 538 Linking Services to Public Housing Residents |  |  |  |  | Implemented through FY 1999 and FY 2000 NOFAs on the Resident Opportunities and Self-Sufficiency (ROSS) program; and HUD may undertake rulemaking in FY 2001.
Sec. 539 Mixed-Finance Public Housing |  | In development.
Sec. 545 Merger of Certificate and Voucher Programs |  |  | May 14, 1999 (64 FR 26632). July 10, 2000, Expansion of Payment Standard Protection (65 FR 42508) | October 21, 1999 (64 FR 56894). An amendment to the final rule was published on November 3, 1999 (64 FR 59620) | A notice to implement FY 2001 Appropriations Act Project-Based Assistance amendments was published January 16, 2001. (66 FR 3605).
|  |  | October 2, 2000, Increased Fair Market Rents and Higher Payment Standards (65 FR 58890) | January 19, 2001 (66 FR 6218), Determining Adjusted Income in HUD Programs Serving Persons with Disabilities: Requiring Mandatory Deductions for Certain Expenses; and Disallowance for Earned Income, effective April 20, 2001 | Among other provisions, this rule applies the mandatory earned income disregard for rent calculation purposes to persons with disabilities in the voucher program.
Sec. 546 Public Housing Agencies |  |  | Part Section 8 merger rulemaking (see section 545) | Part of Section 8 merger rulemaking (see section 545).
Sec. 547 Administrative fee | Yes |  |  |  | Initial guidance has been supplemented by annual notices. (PIH 2000-28).
Sec. 548 Law Enforcement and Security Personnel in Assisted Housing | Yes | Part of Admissions and Occupancy rulemaking |  | A/O Final Rule March 29, 2000 (65 FR 16692).
Sec. 549 Advance Notice to Tenants of Expiration, Termination, or Owner Nonrenewal of Assistance Contracts | Yes |  | Part of Section 8 merger rulemaking (see section 545) |  | Additional guidance provided in PIH Notice 98-64.
Sec. 550 Technical and Conforming Amendments |  |  |  |  | No rulemaking necessary or anticipated.
Sec. 551 Funding and Allocation | Yes.
Sec. 553 Portability |  |  | Part of Section 8 merger rulemaking (see section 545) | Part of Section 8 merger rulemaking (see section 545).
Sec. 554 Leasing to Voucher Holders | Yes |  | Part of Section 8 merger rulemaking (see section 545) | Part of Section 8 merger rulemaking (see section 545).
Sec. 555 Homeownership Option |  | April 30, 1999 (64 FR 23488) |  | September 12, 2000 (65 FR 55134) | 15 demonstration programs were approved under the proposed rule.
|  |  |  |  | Rules are now in development to implement provisions of the American Homeownership and Economic Opportunity Act of 2000, which authorize downpayment assistance and a pilot homeownership assistance program for disabled families.
Sec. 556 Renewals |  |  |  | Negotiated final rule published on October 21, 1999 (64 FR 56894) | Consistent with statutory requirement, the October 21, 1999 final rule was preceded by an implementing PIH Notice (98-65). For the convenience of the public, the PIH notice was also published in the Federal Register on February 18, 1999 (64 FR 8188).
|  |  |  |  | In addition, related material is contained in Tenant-Based Section 8 Program; Procedures for Determining Baseline Unit Allocations, Accessing, Using, Restoration of and Recapture of Program Reserves and Transfers of Baseline Unit Allocations, April 19, 2000 (65 FR21088).
Sec. 557 Manufactured Housing Demonstration Program |  |  |  |  | Implemented by letter to the participating housing authorities.
Sec. 559 Rulemaking and Implementation |  |  | Part of Section 8 merger rulemaking (see section 545) | Part of Section 8 merger rulemaking (see section 545).
Sec. 561 Home Rule Flexible Grant Demonstration | Yes |  |  |  | Implementation method was reiterated in the Status of Implementation Notice in December 22, 1999 (64 FR 71799).
Sec. 563 Performance Evaluation Study |  |  |  |  | The study is complete.
Sec. 564 Public Housing Management Assessment Program |  | June 22, 1999 (64 FR 33348) |  | January 11, 2000 PHAS Amendments (64 FR 1712). June 6, 2000 Technical Corrections (65 FR 36042) | Partial implementation (regarding independent assessment of small troubled PHAs) provided in the April 30, 1999 Initial Implementation Guidance Update Notice (64 FR 23344). Further details were also provided in a Federal Register notice published on October 21, 1999 (64 FR 33348) and subsequent notices.
Sec. 565 Expansion of Powers for Dealing with Public Housing Agencies in Substantial Default | Yes. | Part of the PHAS rulemaking (see section 564) |  | PHAS Final Rule (referenced in preceding section).
Sec. 566 Audits |  |  |  |  | To be implemented through ACC amendment.
Sec. 567 Advisory Council for Housing Authority of New Orleans |  |  |  |  | Advisory Council has been appointed. No rulemaking is necessary or anticipated.
Sec. 568 Troubled PHAs and Consolidated Plans |  |  |  |  | Effective on October 1, 1999. In addition, and will be implemented through rulemaking on Consolidated Plans. S
Sec. 575 Provisions Applicable Only to Public Housing and Section 8 Assistance | Yes (the provision regarding obtaining information from drug abuse treatment facilities) | The remaining provisions are part of the Screening and Eviction for Drug Abuse and Other Criminal Activity rulemaking (64 FR 40262, July 23, 1999)
Sec. 576 Screening of Applicants for Federally Assisted Housing |  | Part of the Screening and Eviction-Related rulemaking
Sec. 577 Termination of Tenancy and Assistance |  | Part of the Screening and Eviction-Related rulemaking
Sec. 578 Ineligibility of Dangerous Sex Offenders for Public Housing |  | Part of the Screening and Eviction-Related rulemaking
Sec. 579 Definitions |  | Part of the Screening and Eviction-Related rulemaking |  |  | These definitions are applicable to the requirements described in sections 575-578.
Sec. 581 Annual Report |  |  |  |  | The first and second annual reports have been submitted to the Congress as required.
Sec. 582 Repeals |  |  |  |  | Effective on October 1, 1999. No rulemaking is necessary or anticipated.
Sec. 583 Consolidated Plans |  |  |  |  | Effective on October 1, 1999. Has been implemented through notices.
Sec. 584 Use of American Products | Yes
Sec. 585 GAO Study on Housing Assistance Programs |  |  |  |  | The study required by this section is under way.
Sec. 586 Drug Elimination Program |  | May 12, 1999 (64 FR 25736) |  | September 14, 1999 (64 FR 49900) | Proposed rule was preceded by Advance Notice of Proposed Rulemaking published on February 18, 1999 (64 FR 8210).
Sec. 587 Report on Drug Elimination Contracts |  |  |  |  | Report was submitted to Congress as required.
Sec. 589 Notice on Treatment of Occupancy Standards |  |  |  |  | Required Federal Register notice published on December 18, 1998 (63 FR 70256). No further regulation is necessary.
Sec. 592 Use of Assisted Housing by Aliens |  |  |  | May 12, 1999 (64 FR 25726)
Sec. 595 Native American Housing Assistance |  |  |  |  | Implemented by notice. No rulemaking is necessary or anticipated.
Sec. 596 Community Development Block Grant Public Services Cap |  |  |  |  | No rulemaking is necessary or anticipated.
Sec. 597 Moderate Rehabilitation Terms for Contract Renewals | Yes |  |  |  | Additional guidance provided in PIH Notice 98-62. No rulemaking is necessary or anticipated.
Sec. 599 Tenant participation |  | June 17, 1999 (64 FR 32782) |  | June 7, 2000 (65 FR 36272) | Further rulemaking regarding enhanced vouchers is expected in 2001.
Sec. 599H Miscellaneous |  |  |  |  | No rulemaking is necessary or anticipated.

Conclusion

HUD is continuing to work expeditiously and closely with its public housing and section 8 partners to complete the effective implementation of the Act.

Dated: March 30, 2001.
Gloria Cousar,
Acting General Deputy Assistant Secretary for Public and Indian Housing.

[FR Doc. 01-8525 Filed 4-5-01; 8:45 am]

BILLING CODE 4210-33-P